DEPARTMENT OF LABOR

Employment and Training Administration

[TA-W-36,995]

Whistler Corporation of Massachusetts, Whistler Auto-Mation Products, Novi Electronics Facility, Novi, MI; Notice of Termination of Investigation

Pursuant to Section 221 of the Trade Act of 1974, an investigation was initiated on October 25, 1999, in response to a worker petition which was filed by the company on behalf of its workers at Whistler Corporation of Massachusetts, Whistler Auto-Mation Products, Novi, Michigan, located in Novi, Michigan.

The petitioner has requested that the petition be withdrawn. Consequently further investigation in this case would serve no purpose, and the investigation has been terminated.

Signed in Washington, DC this 7th day of January, 2000.
Grant D. Beale,
Program Manager, Office of Trade Adjustment Assistance.

[FR Doc. 00-2502 Filed 2-3-00; 8:45 am]

BILLING CODE 4510-30-M